SMALL BUSINESS ADMINISTRATION

[Declaration of Disaster #3315]

State of Arkansas; Amendment #3

In accordance with a notice received from the Federal Emergency Management Agency, dated January 24, 2001, the above-numbered Declaration is hereby amended to include the following counties: Cleburne, Fulton, Greene, Marion and Stone as disaster areas due to damages caused by a severe winter ice storm beginning on December 12, 2000 and continuing through January 8, 2001.

In addition, applications for economic injury loans from small businesses located in the following contiguous counties may be filed until the specified date at the previously designated location: Clay and Randolph in the State of Arkansas, and Howell, Oregon and Taney County in the State of Missouri.

Any counties contiguous to the above-named primary counties and not listed herein have been previously declared.

All other information remains the same, i.e., the deadline for filing applications for physical damage is February 27, 2001 and for economic injury the deadline is October 1, 2001.

(Catalog of Federal Domestic Assistance Program Nos. 59002 and 59008)
Dated: January 25, 2001.
Herbert L. Mitchell,
Associate Administrator for Disaster Assistance.

[FR Doc. 01-2680 Filed 1-30-01; 8:45 am]

BILLING CODE 8025-01-U